DEPARTMENT OF AGRICULTURE

Forest Service

Information Collection; Public Land Uses and Values

AGENCY: Forest Service, USDA.

ACTION: Notice; request for comment.

SUMMARY: In accordance with the Paperwork Reduction Act of 1995, the Forest Service is seeking comments from all interested individuals and organizations on a new information collection associated with an agency research project to study social and economic impacts of public land and resource management in general terms. This study requires administration of a survey to a statistical sample of the general public.

DATES: Comments must be received in writing on or before October 9, 2001 to be assured of consideration. Comments received after that date will be considered to the extent practicable.

ADDRESSES: Comments should be addressed to Dr. Daniel W. McCollum, USDA Forest Service, Rocky Mountain Research Station, 2150-A Centre Ave., Suite 350, Fort Collins, CO 80526-1891. Comments also may be submitted by e-mail to dmccollum@fs.fed.us or by facsimile to (970) 295-5959. The public may inspect comments received at the address given previously. Visitors are urged to call ahead to (970) 295-5962 to facilitate entrance into the office.

FOR FURTHER INFORMATION CONTACT: Dr. Daniel W. McCollum, Rocky Mountain Research Station at (970) 295-5962, dmccollum@fs.fed.us or Mary Ann Ball, Forest Service Information Collection Coordinator at (703) 605-4572, or maryball@fs.fed.us. Individuals who use telecommunication devices for the deaf (TDD) may call the Federal Information Relay Service (FIRS) at 1-800-877-8339 between 8 a.m. and 8 p.m., Eastern Daylight Time, Monday through Friday.

SUPPLEMENTARY INFORMATION: Title: Public Land Uses and Values.

OMB Number: 0596-New.

Type of Request: New.

Abstract: As part of a continuing research effort to develop and evaluate alternative approaches and methods for obtaining and incorporating public input into land and resource management decisions, this information collection will be focused mainly on people and their use of public lands. The information collected will help Forest Service and public land managers better understand how and why members of the general public do or do not use public lands for recreation or other purposes. It will contribute to the assessment of economic and social impacts of public land management in general terms and to the evaluation of the efficiency, effectiveness, and public acceptability of public land management.

This collection of information will include three aspects of public preferences, which are: (1) Objectives (comprised of values and desired outcomes) and preferences related to public land and public land management, (2) land attributes and people's behaviors and perceived consequences that can be linked to policy and management alternatives (in particular, measurable indicators of changes caused or prevented by policy and management actions), and (3) identification of how people evaluate the measured indicators of policy and management outcomes and consequences.

Surveys will be administered primarily by mail, although some telephone contacts and some very brief in-person contacts may be used in particular instances or case studies. Administration of surveys via the World Wide Web/Internet will be considered if and when appropriate. Respondents will be asked to complete an optional questionnaire containing questions about how, why, and where they use public land, how they think public land should be managed, and their preferences related to management tradeoffs. Both those who use public land and members of the general public who do not use these lands will be surveyed to provide a broad base of information.

Forest Service researchers and researchers at cooperating agencies and institutions who are specialists in economics, social science, outdoor recreation, survey research, and statistics will design and develop the surveys and collect and analyze the information.

This survey is necessary to provide land managers with reliable information on the public they serve. With the results of this survey, managers and planners will broaden and deepen their understanding of the public perceptions of various land management practices and impacts of those practices.

Estimate of Annual Burden: 30 minutes per respondent.

Type of Respondents: Individuals visiting or using public lands and randomly selected members of the general public.

Estimated Annual Number of Respondents: 8,000.

Estimated Annual Number of Responses per Respondent: One.

Estimated Total Annual Burden on Respondents: 4,000 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission for Office of Management and Budget approval.

Dated: July 30, 2001.
Robert Lewis, Jr.,
Deputy Chief for Research & Development.

[FR Doc. 01-19804 Filed 8-7-01; 8:45 am]

BILLING CODE 3410-11-P